DEPARTMENT OF ENERGY

Federal Energy Regulatory Commission

Notice of Intent To File Application for a New License

February 7, 2001.

Take notice that the following notice of intent has been filed with the Commission and is available for public inspection:

a. Type of Filing: Notice of Intent to File an Application for New License.

b. Project No: 2082.

c. Date Filed: December 15, 2000.

d. Submitted By: PacifiCorp, 825 N.E. Multnomah, Suite 1500, Portland, OR 97232.

e. Name of Project: Klamath Hydroelectric Project.

f. Location: Klamath River in Oregon and California, and Fall Creek, a tributary in California. In Oregon, the Project is located in the Klamath County near the town of Klamath Falls, and in California, the Project is located in Siskiyou County, near the town of Hornbrook, California.

g. Filed Pursuant to: Section 15 of the Federal Power Act, 18 CFR 16.6.

h. Pursuant to Section 16.19 of the Commission's regulations, the licensee is required to make available the information described in Section 16.7 of the regulations. Such information is available from the licensee at PacifiCorp, 825 N.E. Multnomah, Suite 1500, Portland, OR 97232. Contact Todd Olson at 503-813-6657.

i. FERC Contact: John M. Mudre, (202) 219-1208, John.Mudre@ferc.fed.us.

j. Expiration Date of Current License: February 28, 2006.

k. Project Description: The proposed Klamath Project would contain six dams (five mainstream and one on a tributary), a waterway conveyance system with approximately seven miles of waterways, and seven powerhouses. The developments are: Eastside with 3.2 megawatts (MW) capacity, Westside with 600 kilowatt capacity, J.C. Boyle with 80 MW capacity, Copco No. 1 with 20 MW capacity, Copco No. 2 with 27 MW capacity, Iron Gate with 18 MW capacity, and Fall Creek with 2.2 MW capacity.

l. The licensee states its unequivocal intent to submit an application for a new license for Project No. 2082. Pursuant to 18 CFR 16.9(b)(1) each application for a new license and any competing license applications must be filed with the Commission at least 24 months prior to the expiration of the existing license. All applications for license for this project must be filed by February 28, 2004.

A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

David P. Boergers,
Secretary.

[FR Doc. 01-3575 Filed 2-12-01; 8:45 am]

BILLING CODE 6717-01-M